DEPARTMENT OF ENERGY

Federal Energy Regulatory Commission

Combined Notice of Filings # 1

September 27, 2006.

Take notice that the Commission received the following electric corporate filings:

Docket Numbers: EC06-165-000.

Applicants: Pinnacle West Capital Corporation; Pinnacle West Marketing & Trading.

Description: Pinnacle West Capital Corp et al submit a joint application for approval of corporate reorganization under Section 203 of the FPA.

Filed Date: September 21, 2006.

Accession Number: 20060926-0263.

Comment Date: 5 p.m. Eastern Time on Monday, October 23, 2006.

Take notice that the Commission received the following electric rate filings:

Docket Numbers: ER99-1293-008; ER06-398-001; ER06-399-001; ER04-268-004; ER98-4159-007.

Applicants: Monmouth Energy, Inc.; Duquesne Keystone LLC; Duquesne Conemaugh LLC; Duquesne Power, L.P.; Duquesne Light Company.

Description: Duquesne Keystone LLC et al submit their notice of change in status related to the Duquesne Companies' acquisition of approx 108 MWs of generation.

Filed Date: September 22, 2006.

Accession Number: 20060926-0199.

Comment Date: 5 p.m. Eastern Time on Friday, October 13, 2006.

Docket Numbers: ER03-715-004.

Applicants: Marina Energy, LLC.

Description: Marina Energy, LLC submits its triennial updated market power analysis pursuant to the Commission's Order issued June 17, 2006.

Filed Date: September 21, 2006.

Accession Number: 20060922-0063.

Comment Date: 5 p.m. Eastern Time on Thursday, October 12, 2006.

Docket Numbers: ER03-768-004.

Applicants: Susquehanna Energy Products LLC.

Description: Susquehanna Energy Products LLC submits its updated market power analysis in compliance with FERC's Order issued June 16, 2006, et al.

Filed Date: September 20, 2006.

Accession Number: 20060926-0259.

Comment Date: 5 p.m. Eastern Time on Wednesday, October 11, 2006.

Docket Numbers: ER06-427-005.

Applicants: Mystic Development, LLC.

Description: Mystic Development, LLC submits a Second Revised Sheet 7 to FERC Electric Tariff, Original Volume No. 2 pursuant to the Commission's order issued August 23, 2006.

Filed Date: September 22, 2006.

Accession Number: 20060926-0216.

Comment Date: 5 p.m. Eastern Time on Friday, October 13, 2006.

Docket Numbers: ER06-559-001.

Applicants: Entergy Louisiana, LLC.

Description: Entergy Louisiana, LLC submits a Notice of Termination canceling several rate schedules that are no longer in use pursuant to the Commission's March 9, 2006 order.

Filed Date: September 22, 2006.

Accession Number: 20060927-0074.

Comment Date: 5 p.m. Eastern Time on Friday, October 13, 2006.

Docket Numbers: ER06-1314-001.

Applicants: E.ON U.S., LLC.

Description: E.ON U.S. LLC submits its compliance electric Refund Report pursuant to the Commission's order issued August 24, 2006.

Filed Date: September 25, 2006.

Accession Number: 20060925-5005.

Comment Date: 5 p.m. Eastern Time on Monday, October 16, 2006.

Docket Numbers: ER06-1489-001.

Applicants: S.A.C. Energy Investments, L.P.

Description: SAC Energy Investments LP submits a non-material amendment to its application for market-based rate authority which was filed on September 13, 2006.

Filed Date: September 25, 2006.

Accession Number: 20060926-0198.

Comment Date: 5 p.m. Eastern Time on Monday, October 16, 2006.

Docket Numbers: ER06-1511-000.

Applicants: R&R Energy, Inc.

Description: R&R Energy, Inc submits a petition for acceptance of its initial rate schedule, waivers and blanket authority.

Filed Date: September 15, 2006.

Accession Number: 20060926-0261.

Comment Date: 5 p.m. Eastern Time on Friday, October 6, 2006.

Docket Numbers: ER06-1512-000.

Applicants: Verso Androscoggin LLC.

Description: Verso Androscoggin, LLC submits a Notice of Succession and a revised market-based rate tariff.

Filed Date: September 21, 2006.

Accession Number: 20060926-0258.

Comment Date: 5 p.m. Eastern Time on Thursday, October 12, 2006.

Docket Numbers: ER06-1513-000.

Applicants: ISO New England Inc.

Description: ISO New England, Inc submits a non-conforming Market Participation Service Agreement with 330 Fund I, LP.

Filed Date: September 21, 2006.

Accession Number: 20060926-0262.

Comment Date: 5 p.m. Eastern Time on Thursday, October 12, 2006.

Docket Numbers: ER06-1514-000.

Applicants: Rochester Gas and Electric Corporation.

Description: Rochester Gas and Electric Corp submits its Third Amendment to the Interconnection Agreement with RE Ginna Nuclear Power Plant, LLC.

Filed Date: September 22, 2006.

Accession Number: 20060926-0218.

Comment Date: 5 p.m. Eastern Time on Friday, October 13, 2006.

Docket Numbers: ER06-1515-000.

Applicants: TXU Portfolio Management Company LP.

Description: TXU Portfolio Management Company, LP submits its application for amendment to its market-based rate tariff.

Filed Date: September 22, 2006.

Accession Number: 20060926-0217.

Comment Date: 5 p.m. Eastern Time on Friday, October 13, 2006.

Take notice that the Commission received the following public utility holding company filings:

Docket Numbers: PH06-107-000.

Applicants: PPL Corporation.

Description: PPL Corporation submits a Petition for Waiver pursuant to section 18 CFR 366.4(c)(1) of the Commission's Regulations.

Filed Date: September 22, 2006.

Accession Number: 20060922-5050.

Comment Date: 5 p.m. Eastern Time on Friday, October 13, 2006.

Docket Numbers: PH06-108-000.

Applicants: Sempra Energy.

Description: Sempra Energy submits a Notification of Waiver pursuant to section 18 CFR 366.4(c)(1) of the Commission's Regulations.

Filed Date: September 22, 2006.

Accession Number: 20060922-5063.

Comment Date: 5 p.m. Eastern Time on Friday, October 13, 2006.

Docket Numbers: PH06-109-000; PH06-110-000; PH06-111-000; PH06-112-000; PH06-113-000; PH06-114-000.

Applicants: Plainfield Direct Institutional Offshore Feeder Fund Limited; Plainfield Direct Offshore Feeder Fund Limited; Plainfield Direct Onshore Feeder Fund LP; Plainfield Special Situations Institutional Offshore Feeder Fund Limited; Plainfield Special Situations Offshore Feeder Fund Limited; Plainfield Special Situations Onshore Feeder Fund LP.

Description: Plainfield Direct, et al submit Waiver Notifications pursuant to sections 18 CFR 366.3(c) and 366.4(c) of the Commission's Regulations.

Filed Date: September 25, 2006.

Accession Number: 20060925-5039.

Comment Date: 5 p.m. Eastern Time on Monday, October 16, 2006.

Docket Numbers: PH06-115-000.

Applicants: D. E. Shaw & Co., II, Inc.

Description: D. E. Shaw & Co., II, Inc submits its Notice of Waiver pursuant to sections 18 CFR 366.3(c) and 366.4(c)(1) of the Commission's regulations.

Filed Date: September 25, 2006.

Accession Number: 20060925-5042.

Comment Date: 5 p.m. Eastern Time on Monday, October 16, 2006.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Magalie R. Salas,
Secretary.

[FR Doc. E6-16341 Filed 10-3-06; 8:45 am]

BILLING CODE 6717-01-P